DEPARTMENT OF HEALTH AND HUMAN SERVICES

Centers for Disease Control and Prevention

[Program Announcement 02212]

Support for Civil Society Organizations Responding to HIV/AIDS in Mali; Notice of Award of Funds

A. Purpose

The Centers for Disease Control and Prevention (CDC) announces the availability of fiscal year (FY) 2002 funds for a Cooperative Agreement program to Support Civil Society Organizations Responding to HIV/AIDS in high risk groups in Mali.

The purpose of this cooperative agreement is to provide support to civil society organizations responding to the HIV/AIDS epidemic in Mali. Specifically, CDC intends to focus its support on (1) Non-governmental organizations (NGOs) with national or regional missions and activities or cross-cutting activities that focus on HIV/AIDS prevention in high risk groups and are under the auspices of the Groupe Pivot umbrella NGO organization; (2) NGO infrastructure or administrative support that is needed to complement already existing administrative and program management capacities, including assistance with program planning, accountability and monitoring and evaluation; and (3) providing support of NGO implementation of Sexually Transmitted Infection (STI) referral or direct treatment services based on the National STI syndromic treatment algorithms and utilizing outreach, education, counseling and partner referral mechanisms. See Attachment I for additional background information.

Measurable outcomes of the program will be in alignment with the following performance goal for the National Center for HIV, STD and TB Prevention, Global AIDS Program: Working with other countries, USAID, international, and U.S. government agencies, reduce the number of new HIV infections among 15 to 24 year olds in sub-Saharan Africa from an estimated 2 million by 2005.

B. Eligible Applicants

Assistance will be provided only to the Groupe Pivot organization based in Bamako, Mali. No other applications are solicited.

This announcement is restricted to Groupe Pivot because it is the only organization in Mali that serves as an umbrella organization for hundreds of non-governmental organizations located through the country. Groupe Pivot is the only organization in Mali that provides training, technical assistance and financial support to non-governmental organizations/community-based organizations (NGOs/CBOs) for the planning, implementation and management of health and population projects. CDC's support to NGOs/CBOs for STI/HIV prevention at the community level will be greatly enhanced by collaboration with Groupe Pivot.

C. Availability of Funds

Approximately $100,000 is available in FY 2002 for Groupe Pivot to fund multiple awards to NGOs averaging from $6,500 to $19,500 per award. It is expected that the umbrella award will begin on or about September 1, 2002, and will be made for a 12-month budget period within a project period of up to three (3) years. Funding estimates may change and will be dependent on extension of CDC agreement with USAID in Mali.

Continuation awards within an approved project period will be made on the basis of satisfactory progress as evidenced by required reports and the availability of funds. Matching funds are not required for this program.

Funds are available under this announcement to support specific HIV/AIDS prevention activities. These activities are:

• Development of STI referral services for high risk groups and their partners.

• Development of on-site STI services for high risk groups and their partners, when appropriate.

• STI/HIV outreach services and STI/HIV education programs for high risk groups and partners.

• Monitoring and evaluation of program indicators, such as number of persons referred and treated, number of condoms distributed and number of education sessions held by the sub-grantee.

• Development of condom promotion and distribution programs among high risk groups, including condom skills training.

Use of Funds

STI/HIV Prevention

Funds may be utilized by grantee or sub-grantees only in activities associated with HIV/AIDS and STI prevention in particular. They are also targeted to high risk groups.

Antiretroviral Drugs

The purchase of antiretrovirals, reagents, and laboratory equipment for antiretroviral treatment projects requires pre-approval from the Division of STD Prevention—International Activities.

Contracts

Applicant may contract or sign memoranda of understanding with other organizations under these cooperative agreements (i.e. local NGOs), however, applicant must perform a substantial portion of the activities, including program management and operations and ultimate responsibility for delivery of prevention services for which funds are requested.

The costs that are generally allowable in grants to domestic organizations are likewise allowable to foreign institutions and international organizations, with the following exceptions:

Indirect Costs: With the exception of the American University, Beirut, the Gorgas Memorial Institute, and the World Health Organization, indirect costs will not be paid (either directly or through a sub-award) to organizations located outside the territorial limits of the United States or to international organizations regardless of their location.

All requests for funds, including the budget contained in the application, shall be stated in U.S. dollars. All proposals must be written in English. Once an award is made, the Department of Health and Human Services (DHHS) will not compensate foreign grantees for currency exchange fluctuations through the issuance of supplemental awards.

Needle Exchange

No funds appropriated under this Act shall be used to carry out any program of distributing sterile needles or syringes for the hypodermic injection of any illegal drug.

D. Where To Obtain Additional Information

CDC announcement information can be found on the CDC home page Internet address— http://www.cdc.gov. Click on “Funding” then “Grants and Cooperative Agreements.”

For business management technical assistance, contact: Cynthia Collins, Grants Management Specialist, Grants Management Branch, Procurement & Grants Office, Centers for Disease Control and Prevention, Room 3000, 2920 Brandywine Road, Atlanta, GA 30341-4146, Telephone: (770) 488-2757, e-mail address: ccollins@cdc.gov.

For program technical assistance, contact: Famory Fofana, MD, Centers for Disease Control, Bamako-Coura Rue 371, Porte 397, PNLS, Cour PMI Centrale (SSS Commune III), BAMAKO—Republique du Mali, e-mail address: ffofana@cdcmali.org.

Dated: October 9, 2002.
Edward J. Schultz,
Deputy Director, Procurement and Grants Office, Centers for Disease Control and Prevention.

[FR Doc. 02-26538 Filed 10-17-02; 8:45 am]

BILLING CODE 4163-18-P